DEPARTMENT OF AGRICULTURE

Forest Service

West Maurys Fuels and Vegetation Management Project, Ochoco National Forest, Crook County, Oregon

AGENCY: Forest Service, USDA.

ACTION: Notice of intent to prepare an environmental impact statement.

SUMMARY: The USDA, Forest Service will prepare an environmental impact statement (EIS) on a proposal to manage the fuels and vegetation in the west half of the West Maury Mountains. The proposed action will decrease high-intensity fire conditions, maintain low intensity fire conditions where they exist, and maintain and increase old growth habitat. This will entail changing the forest density and species composition to maintain and increase forest stand resistance to high intensity fire, insects, and disease. This will be achieved by applying a prescription comprising pre-commercial and commercial thinning of the under-story, grapple piling of slash thinning, and prescribed burns. Timber harvest and prescribed burning prescriptions will be conducted on estimated 18,508 acres. Juniper thinning, part of the prescription throughout the entire project area, would help restore upland grass and shrub communities. The agency will give notice of the full environmental analysis and decision making process so interested and affected people may participate and contribute to the final decision.

DATES: Comments concerning the scope of the analysis would be most helpful if received by February 16, 2004.

ADDRESSES: Send written comments to Arthur Currier, District Ranger, Lookout Mountain District, Ochoco National Forest, 3160 NE Third Street, Prineville, Oregon 97754.

FOR FURTHER INFORMATION CONTACT: Bryan Scholz, Interdisciplinary Team leader, Phone: (541) 416-6500, or e-mail: comments-pacificnorthwest-ochoco@fs.fed.us

SUPPLEMENTARY INFORMATION:

Purpose and Need for Action

Existing vegetation comprises excessively dense, small tree stands which reduce habitat for old-growth-dependent species such as the pileated and white-headed woodpeckers and goshawks. The crowded conditions foster bark beetle infestations and prevent small trees from growing into large ones. Dense tree stands are ripe for intense fires because they are often diseased and compacted with dead fuel. When trees are permitted to grow large in more open conditions, the stands emulate the conditions found prior to fire suppression.

Proposed Action

The Proposed Action consists of the following actions: 7,750 acres of commercial thinning, 11,700 acres of noncommercial thinning, 7,650 acres of fuels treatment of which 4,200 is underburning of natural fuels, and 6 miles of new roads, 6 miles of temporary roads, and 10 miles of roads to be decommissioned. The Proposed Action will move the distribution of fire regimes towards the historic range of variability by decreasing high-intensity fire conditions and maintaining low intensity fire conditions where they exist. This action will entail changing forest conditions to maintain and increase forest stand resistance to high intensity fire, insects and disease by applying a prescription comprising pre-commercial, and commercial thinning and prescribed burns. Slash from thinning will be treated with prescribed fire and grapple piling. The proposed action would increase the amount of forested area dominated by fire-tolerant species, maintain and enhance stands dominated by large and old structure (LOS) characteristics, move forested vegetation closer towards historic conditions, and would decrease the number of acres with potential for high-severity stand replacement fire. New and temporary road construction will be kept to a minimum, thus reducing the potential for harmful resource effects.

Issues

Preliminary issues that have been identified include: habitat quality for pileated and white-headed woodpeckers, goshawk nest cores and elk security. In addition, mitigation measures will be developed for issues regarding erosive soils, sedimentation and water quality. There are cultural and heritage issues as well. An alternative to the Proposed Action is being developed to address significant issues, and options also include a no-action alternative.

Alternatives

At a minimum, two action alternatives and a no action alternative will be analyzed in detail in the draft EIS. The action alternatives examine combinations and degrees of activities in order to meet the purpose of and need for action and concerns stated during the public scoping process. Under the no action alternative (Alternative A), pre-commercial and commercial timber harvest and other vegetation treatments, would not occur. Ongoing activities, such as road maintenance, noxious weeds abeyance, and recreational use, would continue. Access for public and administrative purposes would continue on the existing transportation system. Resource protection activities (such as road maintenance and fire suppression) would continue.

Alternative 2 is the Proposed Action.

Alternative 3 makes unit-by-unit alterations from the Proposed Action to accommodate concerns about wildlife, hydrology and soils. This alternative eliminates activities in habitat for pileated and white-headed woodpeckers, closes roads, reduces road density to retain or create wildlife connectivity corridors or security. Where necessary, Alternative 3 would promote intermingling crown compositions and/or augments or retains 70 percent crown closure for satisfactory elk cover. In other areas, units are dropped from treatments altogether to alleviate sediment increase or soil erosion. Harvest will be conducted minimally in stands with large and old growth characteristics, and snags and down wood will remain to foster habitat.

Scoping

Initial scoping began February 6, 2003, when the scoping letter, which included a description of the proposed action and stated the purpose and need for the project, was mailed to interested parties. The proposal was listed in the Schedule of Proposed Actions for Spring 2003, Summer 2003, Fall 2003 and Winter 2004. Using the comments from the public, agencies, coalitions and Native Americans, the interdisciplinary team developed the list of issues to address which, subsequently, generated alternative three.

Comments

The Forest Service is seeking information, comments, and assistance from other agencies, organizations, Native Americans, and individuals who may be interested in or affected by the Proposed Action. This input will be used to prepare the EIS. Comments are appreciated throughout the analysis process; however, comments received in response to this notice, including names and addresses of those who comment, will be considered a matter of public record on this Proposed Action and will be available for public inspection. Anonymous comments will be considered; however, those who submit anonymous comments will not have standing to appeal the subsequent decision under 36 CFR part 215. Additionally, pursuant to 7 CFR 1.27(d), any person may request the agency to withhold a submission from the public record by showing how the Freedom of Information Act (FOIA) permits such confidentiality. If the request for anonymity is denied, the agency will notify the person and resubmission is possible.

The draft EIS will be filed with the Environmental Protection Agency (EPA) and available for public review by March 2004. The EPA will publish a Notice of Availability of the EIS in the Federal Register. The comment period on the draft EIS will be 45 days from the date the EPA notice appears in the Federal Register.

The Forest Service believes, at this early stage, it is important to give reviewers notice of several related to public participation in the environmental review process. First, reviewers of a draft must structure their participation in the environmental review of the proposal so that it is meaningful and alerts the agency to the reviewer's position and contentions [Vermont Yankee Nuclear Power Corp. v. NRDC, 435 U.S. 519, 553 (1978)]. Also, environmental objections that could have been raised at the EIS stage but are not expressed until after the EIS is completed may be waived or dismissed by the courts [City of Angoon v. Hodel, 803 f. 2d 1016, 1022 (9th Cir, 1986) and Wisconsin Heritages, Inc. v. Harris, 490 F. Supp. 1334, 1338 (E.D. Wis. 1980)]. Because of these court rulings, it is important that those interested in this proposed action participate by the close of the 45 day comment period so that substantive comments and objections are made available to the Forest Service at a time when it can meaningfully consider them and respond to them in the final EIS.

To assist the Forest Service in identification and consideration of issues and concerns on the Proposed Action, comments on the EIS should be specific, and refer to exact page numbers or chapters of the EIS. Comments may also be complimentary and address adequacies and merits of the alternatives formulated and discussed. Reviewers may wish to consult the Council on Environmental Quality Regulations on procedural provisions of the National Environmental Policy Act at 40 CFR 1503.3 when addressing these points.

The Forest Service is the lead agency and the responsible official is the Forest Supervisor, Ochoco National Forest. He will decide which, if any, of the alternatives will be implemented. His decision and rationale for the West Maurys Fuels and Vegetation Management Project will be documented in the Record of Decision, which will be subject to Forest Service Appeal Regulations (36 CFR part 215).

Dated: January 6, 2004.
Larry Timchak,
Forest Supervisor.

[FR Doc. 04-958 Filed 1-15-04; 8:45 am]

BILLING CODE 3410-11-P